DEPARTMENT OF HEALTH AND HUMAN SERVICES

Centers for Disease Control and Prevention

[60Day-00-29]

Proposed Data Collections Submitted for Public Comment and Recommendations

In compliance with the requirement of Section 3506(c)(2)(A) of the Paperwork reduction Act of 1995, the Centers for Disease Control and Prevention is providing opportunity for public comment on proposed data collection projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Seleda Perryman, CDC Assistant Reports Clearance Officer, 1600 Clifton Road, MS-D24, Atlanta, GA 30333. Written comments should be received within 14 days of this notice.

Proposed Projects

Possible Estuary-Associated Syndrome (PEAS) Surveillance —New— National Center for Environmental Health (NCEH) is requesting an emergency clearance to collect data on PEAS. In 1997, scientists found a newly identified microorganism, the dinoflagellate Pfiesteria piscicida, in water samples taken from a bay tributary. The presence of large numbers of this organism (a bloom) was purportedly associated with observations of thousands of dead fish as well as with reports of a wide range of adverse human health effects. Reports of this purported association created excessive public concern about exposure to estuarine waters and a general distrust in seafood that prompted a flood of inquiries to public health and environmental quality agencies.

Since 1997, the Centers for Disease Control and Prevention (CDC) has been working with the States of Delaware, Florida, Maryland, North Carolina, South Carolina, and Virginia in a series of meetings, workshops, and conference calls to design, implement, evaluate, and revise surveillance activities to provide a quantitative estimate of the public health burden associated with responding to Pfiesteria-related events, including blooms, fish kills, and people with health complaints. Cooperative agreement funds were awarded to these states to develop a multi-state surveillance system to examine the effects of Pfiesteria blooms upon humans and to expand the scientific knowledge of the human health effects if Pfiesteria. Specifically, the states will quantify the burden of PEAS on their health agencies by enumerating the number of contacts involving public and professional requests for information as well as symptoms involved in self-reporting. In collaboration with the state health departments, NCEH has developed a standardized data collection instrument that the states may use to collect and store the surveillance data. NCEH has requested that the states report specific data elements back at regular intervals so that NCEH can compile the data and issue periodic aggregate reports.

CDC/NCEH is requesting a 6 month emergency clearance. There is no cost to respondents.

Type of burden | Number of respondents | Number of responses | Avg. burden/ response (in hrs.) | Total burden (in hrs.)
Information only calls | 800 | 1 | 5/60 | 66
Symptomatic reports—telephone interview | 80 | 1 | 25/60 | 33
Total |  |  |  | 99

Dated: March 13, 2000.
Charles Gollmar,
Acting Associate Director for Policy, Planning, and Evaluation, Centers for Disease Control and Prevention (CDC).

[FR Doc. 00-6614 Filed 3-16-00; 8:45 am]

BILLING CODE 4163-18-P